DEPARTMENT OF ENERGY

[FE Docket Nos. 05-58-NG, 05-57-NG, 05-60-NG, 05-59-NG, 05-61-NG, 05-62-LNG, 05-63-NG, 05-52-NG, 05-64-NG, 05-66-NG, 05-65-NG, 05-67-NG, 05-68-NG, 05-72-NG, 05-70-NG, and 05-71-NG]

Office of Fossil Energy; Transalta Energy Marketing Corp., Husky Gas Marketing Inc., Cinergy Marketing & Trading, LP, Cinergy Canada, Inc., Conocophillips Company, Enterprise Products Operating L.P., Oxy Energy Canada, Inc., Oxy Energy Canada, LLC, TXU Portfolio Management Company, L.P., Wisconsin Public Service Corporation, Portland General Electric Company, Pacific Gas and Electric Company, Public Utility District No. 1 of Clark County, Washington, Emera Energy Services, Inc., Tristar Producers Services of Texas, L.P., Energia de Baja California, S. de R.L. C.V.; Orders Granting and Vacating Authority To Import and Export Natural Gas, Including Liquefied Natural Gas

AGENCY: Office of Fossil Energy, DOE.

ACTION: Notice of Orders.

SUMMARY: The Office of Fossil Energy (FE) of the Department of Energy gives notice that during August and September 2005, it issued Orders granting and vacating authority to import and export natural gas, including liquefied natural gas. These Orders are summarized in the attached appendix and may be found on the FE Web site at http://www.fe.doe.gov (select gas regulation). They are also available for inspection and copying in the Office of Natural Gas Regulatory Activities, Docket Room 3E-033, Forrestal Building, 1000 Independence Avenue, SW., Washington, DC 20585, (202) 586-9478. The Docket Room is open between the hours of 8 a.m. and 4:30 p.m., Monday through Friday, except Federal holidays.

Issued in Washington, D.C., on October 18, 2005.
R. F. Corbin,
Manager, Natural Gas Regulation, Office of Natural Gas Regulatory Activities, Office of Fossil Energy.

Appendix—Orders Granting Import/Export Authorizations

Order No. | Date issued | Importer/exporter FE docket No. | Import volume | Export volume | Comments
2118 | 8-3-05 | TransAlta Energy Management Corp., 05-58-NG | 400 Bcf |  | Import and export a combined total of natural gas from and to Canada and Mexico, beginning on October 1, 2005, and extending through September 30, 2007.
2119 | 8-3-05 | Husky Gas Marketing Inc., 05-57-NG | 250 Bcf |  | Import and export a combined total of natural gas from and to Canada, beginning on August 10, 2005, and extending through August 9, 2007.
2120 | 8-22-05 | Cinergy Marketing & Trading, LP, 05-60-NG | 500 Bcf |  | Import and export a combined total of natural gas from and to Mexico, beginning on November 1, 2005, and extending through October 31, 2007.
2121 | 8-25-05 | Cinergy Canada, Inc., 05-59-NG | 730 Bcf |  | Import and export a combined total of natural gas from and to Mexico, beginning on September 1, 2005, and extending through October 31, 2007.
2122 | 9-6-05 | ConocoPhillips Company, 05-61-NG | 600 Bcf |  | Import and export a combined total of natural gas from and to Canada and Mexico, beginning on August 27, 2005, and extending through August 26, 2007.
2123 | 9-19-05 | Enterprise Products Operating L.P., 05-62-LNG | 150 Bcf |  | Import LNG from various international sources, beginning on September 15, 2005, and extending through September 14, 2007.
2109-A | 9-19-05 | OXY Energy Canada, LLC, 05-52-NG |  |  | Vacate blanket authority.
2124 | 9-19-05 | Oxy Energy Canada, Inc., 05-63-NG |  |  | Import and export a combined total of natural gas from and to Canada, beginning on July 1, 2005, and extending through June 30, 2007.
2125 | 9-19-05 | TXU Portfolio Management Company, L.P., 05-64-NG | 240 Bcf | 240 Bcf | Import and export a combined total of natural gas from and to Canada, and import and export a combined total of natural gas from and to Mexico, beginning on July 27, 2005, and extending through July 26, 2007.
2126 | 9-19-05 | Wisconsin Public Service Corporation, 05-66-NG | 36.5 Bcf |  | Import natural gas from Canada, beginning on October 1, 2005, and extending through September 30, 2007.
2127 | 9-23-05 | Portland General Electric Company, 05-65-NG | 135 Bcf | 45 Bcf | Import and export natural gas from and to Canada, beginning on November 3, 2005, and extending through November 2, 2007.
2128 | 9-23-05 | Pacific Gas and Electric Company, 05-67-NG | 600 Bcf |  | Import natural gas from Canada, beginning on November 1, 2005, and extending through October 31, 2007.
2129 | 9-23-05 | Public Utility District No. 1 of Clark County, Washington, 05-68-NG | 65 Bcf |  | Import and export a combined total of natural gas from and to Mexico, beginning on October 1, 2005, and extending through September 30, 2007.
2130 | 9-30-05 | Emera Energy Services, Inc. 05-72-NG | 400 Bcf |  | Import and export a combined total of natural gas from and to Mexico, beginning on September 1, 2005, and extending through October 31, 2007.
2131 | 9-30-05 | Tristar Producers Services of Texas, L.P., 05-70-NG |  | 3,771 Bcf | Export natural gas to Mexico, beginning on September 30, 2005, and extending through September 29, 2007.
2132 | 9-30-05 | Energia De Baja California, S. de R.L. C.V. 05-71-NG |  | 43.1 Bcf | Export natural gas to Mexico, beginning on December 11, 2005, and extending through December 10, 2007.

[FR Doc. 05-21292 Filed 10-24-05; 8:45 am]

BILLING CODE 6450-01-P